DEPARTMENT OF COMMERCE

National Oceanic and Atmospheric Administration

[I.D. 072301H]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Herring Advisory Panel with the Mid Atlantic Fishery Council’s Mackerel Advisory Panel and its Herring Oversight Committee in August, 2001 to consider actions affecting New England fisheries in the exclusive economic zone (EEZ). Recommendations from these groups will be brought to the full Council for formal consideration and action, if appropriate.

DATES: The meetings will be held on August 15 and August 22, 2001. See SUPPLEMENTARY INFORMATION for specific dates and times.

ADDRESSES: The meetings will be held in Wakefield and Danvers, MA. See SUPPLEMENTARY INFORMATION for specific locations.

Council address: New England Fishery Management Council, 50 Water Street, Mill 2, Newburyport, MA 01950; telephone: (978) 465-0492.

FOR FURTHER INFORMATION CONTACT: Paul J. Howard, Executive Director, New England Fishery Management Council; (978) 465-0492.

SUPPLEMENTARY INFORMATION:

Meeting Dates and Agendas

Wednesday, August 15, 2001 at 9:30 a.m. - Joint Herring Advisory Panel and Mid Atlantic Fishery Council Mackerel Advisory Panel Meeting.

Location: Sheraton Colonial, One Audubon Road, Wakefield, MA 01880; telephone: (781) 245-9300.

This group will discuss issues and options for limited entry/controlled access both for the Area 1A herring fishery and for the herring and mackerel fisheries generally. They will finalize recommendations to the Herring Committee on whether to continue development of a limited entry/controlled access program in 2002. The Committee will consider the advisors’ recommendations on August 22, and make a recommendation to the Council in September during the Council discussion on 2002 work-load priorities.

Wednesday, August 22, 2001 at 9:30 a.m. - Herring Oversight Committee Meeting

Location: Sheraton Ferncroft, 50 Ferncroft Drive, Danvers, MA 01923; telephone: (781) 777-2500.

The committee will review advisory panel recommendations and finalize recommendations to the Council, in its scheduling of work-load priorities, on what management actions should be undertaken in 2002 regarding the development of a limited entry/controlled access program. The committee will also discuss issues and options for Framework 1 to the Herring Fishery Management Plan. Framework 1 would implement a split season quota for Area 1A. They will also discuss a request for an increase in the joint venture (JV) allocation through a mid-season adjustment.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 25, 2001.
Dean swanson,
Acting Director, Office of Sustainable Fisheries, National Marine Fisheries Service.

[FR Doc. 01-19219 Filed 8-1-01; 8:45 am]

BILLING CODE 3510-22-S